DEPARTMENT OF HOMELAND SECURITY

U.S. Customs and Border Protection

[Docket No. USCBP-2024-0001]

Commercial Customs Operations Advisory Committee

AGENCY: U.S. Customs and Border Protection (CBP), Department of Homeland Security (DHS).

ACTION: Committee management; notice of open Federal advisory committee meeting.

SUMMARY: The Commercial Customs Operations Advisory Committee (COAC) will hold its quarterly meeting on Wednesday, March 6, 2024, in Charleston, SC. The meeting will be open for the public to attend in person or via webinar. The in-person capacity is limited to 75 persons for public attendees.

DATES: The COAC will meet on Wednesday, March 6, 2024, from 1 p.m. to 5 p.m. eastern standard time (EST). Please note that the meeting may close early if the committee has completed its business. Registration to attend in-person and comments must be submitted no later than March 1, 2024.

ADDRESSES: The meeting will be held at the Doubletree Hilton, 7401 Northwood Boulevard, Charleston, SC 29406 in the Lower/Upper Altitude Ballroom. For virtual participants, the webinar link and conference number will be posted by 5 p.m. EST on March 5, 2024, at https://www.cbp.gov/trade/stakeholder-engagement/coac. For information or to request special assistance for the meeting, contact Mrs. Latoria Martin, Office of Trade Relations, U.S. Customs and Border Protection, at (202) 344-1440, as soon as possible.

Comments may be submitted by one of the following methods:

• Federal eRulemaking Portal: http://www.regulations.gov. Search for Docket Number USCBP-2024-0001. To submit a comment, click the “Comment” button located on the top-left hand side of the docket page.

• Email: tradeevents@cbp.dhs.gov. Include Docket Number USCBP-2024-0001 in the subject line of the message.

Comments must be submitted in writing no later than March 1, 2024, and must be identified by Docket No. USCBP-2024-0001. All submissions received must also include the words “Department of Homeland Security.” All comments received will be posted without change to https://www.cbp.gov/trade/stakeholder-engagement/coac/coac-public-meetings and www.regulations.gov. Therefore, please refrain from including any personal information you do not wish to be posted. You may wish to view the Privacy and Security Notice, which is available via a link on www.regulations.gov.

FOR FURTHER INFORMATION CONTACT: Mrs. Latoria Martin, Office of Trade Relations, U.S. Customs and Border Protection, 1300 Pennsylvania Avenue NW, Room 3.5A, Washington, DC 20229, (202) 344-1440; or Ms. Felicia M. Pullam, Designated Federal Officer, at (202) 344-1440 or via email at tradeevents@cbp.dhs.gov.

SUPPLEMENTARY INFORMATION: Notice of this meeting is given under the authority of the Federal Advisory Committee Act, title 5 U.S.C. ch. 10. The Commercial Customs Operations Advisory Committee (COAC) provides advice to the Secretary of the Department of Homeland Security, the Secretary of the Department of the Treasury, and the Commissioner of U.S. Customs and Border Protection (CBP) on matters pertaining to the commercial operations of CBP and related functions within the Department of Homeland Security and the Department of the Treasury.

Pre-Registration: Meeting participants may attend either in person or via webinar. All participants who plan to participate in person must register using the method indicated below:

For members of the public who plan to participate in person, please register online at https://cbptradeevents.certain.com/profile/15733 by 5 p.m. EST on March 1, 2024. For members of the public who are pre-registered to attend the meeting in person and later need to cancel, please do so by 5 p.m. EST on March 1, 2024, utilizing the following link: https://cbptradeevents.certain.com/profile/15733.

For members of the public who plan to participate via webinar, the webinar link and conference number will be posted by 5 p.m. EST on March 5, 2024, at https://www.cbp.gov/trade/stakeholder-engagement/coac. Registration is not required to participate virtually.

The COAC is committed to ensuring that all participants have equal access regardless of disability status. If you require a reasonable accommodation due to a disability to fully participate, please contact Mrs. Latoria Martin at (202) 344-1440 as soon as possible.

Please feel free to share this information with other interested members of your organization or association.

To facilitate public participation, we are inviting public comment on the issues the committee will consider prior to the formulation of recommendations as listed in the Agenda section below.

There will be a public comment period after each subcommittee update during the meeting on March 1, 2024. Speakers are requested to limit their comments to two minutes or less to facilitate greater participation. Please note that the public comment period for speakers may end before the time indicated on the schedule that is posted on the CBP web page: http://www.cbp.gov/trade/stakeholder-engagement/coac.

Agenda

The COAC will hear from the current subcommittees on the topics listed below:

1. The Intelligent Enforcement Subcommittee will provide updates on the work completed and topics discussed in its working groups. The Antidumping/Countervailing Duty (AD/CVD) Working Group will provide updates regarding its work and discussions on importer compliance with AD/CVD requirements. For this quarter, CBP continued to work on revisions to the Statement of Work (SOW) for the Forced Labor Working Group. During the next quarter, the Forced Labor Working Group will begin meeting and having discussions under the revised SOW. The SOW may include objectives to enhance focus on technology best practices, stakeholder training and guidance, transparency, and monitoring progress of the implementation of prior recommendations made by COAC. The Intellectual Property Rights (IPR) Process Modernization Working Group will report on the continuation of the development of enhancements in communications between CBP, rights holders, and the trade community regarding enforcement actions. The Bond Working Group was placed on hiatus effective December 13, 2023, and does not anticipate providing an update.

2. The Next Generation Facilitation Subcommittee will provide updates on all its existing working groups, to include a new working group, and the transfer of an existing working group to this subcommittee. The Automated Commercial Environment (ACE) 2.0 Working Group had the chance to review the remaining business case scenarios for the Concept of Operations Document. The Customs Interagency Industry Working Group (CII) continues to work on identifying data redundancies to improve efficiencies for the government and the trade. A new working group, the Modernized Entry Processes Working Group (MEPWG), launched following the start of the 17th Term. The Broker Modernization Working Group (BMWG) has been transferred from the Rapid Response Subcommittee to this subcommittee. Finally, the Passenger Air Operations (PAO) Working Group continues to discuss with the Trusted Worker Program (eBadge) CBP Security Seal automated processing, automation of forms, and global entry/trusted traveler programs, and will provide an update on those discussions.

3. The Rapid Response Subcommittee had one active working group this quarter, the United States-Mexico-Canada Agreement (USMCA) Chapter 7 Working Group. The working group met twice during this quarter. The group will discuss their determination that the goals of the Statement of Work have been met and that the group will go on hiatus starting February 1, 2024. The Broker Modernization Working Group (BMWG) is still an active working group but has been transferred from the Rapid Response Subcommittee to the Next Generation Facilitation Subcommittee.

4. The Secure Trade Lanes Subcommittee will provide updates on all seven of its active working groups: the Export Modernization Working Group, the In-Bond Working Group, the Trade Partnership and Engagement Working Group, the Pipeline Working Group, the Cross-Border Recognition Working Group, the De Minimis Working Group, and the Centers Working Group. The Export Modernization Working Group has continued its work on the Electronic Export Manifest Pilot Program and is specifically focused on the effects of progressive filing by the shipper to continuously update export information on successive dates rather than on a specific date. The In-Bond Working Group has continued its focus on the implementation of prior recommendations made by COAC. The Trade Partnership and Engagement Working Group has continued its work on the elements of the Customs Trade Partnership Against Terrorism (CTPAT) security program and the validation process. The Pipeline Working Group has continued discussing the most appropriate “next step” commodities and potential users of Distributed Ledger Technology to engage once the pilot for tracking pipeline-borne goods deploys. The Cross-Border Recognition Working Group began to meet again to develop tasks specific to its Statement of Work. The De Minimis Working Group has continued its work on strengthening the supply chain and mitigating risks in the low-value package environment. The Centers Working Group, new to this subcommittee, has begun work towards the goals of its Statement of Work.

Meeting materials will be available on February 26, 2024, at: http://www.cbp.gov/trade/stakeholder-engagement/coac/coac-public-meetings.

Felicia M. Pullam,
Executive Director, Office of Trade Relations.

[FR Doc. 2024-03260 Filed 2-15-24; 8:45 am]

BILLING CODE 9111-14-P